DEPARTMENT OF TRANSPORTATION

Federal Aviation Administration

Notice of Intent To Rule on Request To Release Airport Property at the Killeen-Skylark Field, Killeen, TX

AGENCY: Federal Aviation Administration (FAA), DOT.

ACTION: Notice of request to release airport property.

SUMMARY: The FAA proposes to rule and invite public comment on the release of land at the Killeen-Skylark Field under the provisions of Section 125 of the Wendell H. Ford Aviation Investment Reform Act for the 21st Century (AIR 21).

DATES: Comments must be received on or before January 5, 2009.

ADDRESSES: Comments on this application may be mailed or delivered to the FAA at the following address: Mr. Mike Nicely, Manager, Federal Aviation Administration, Southwest Region, Airports Division, Texas Airports Development Office, ASW-650, Fort Worth, Texas 76193-0650.

In addition, one copy of any comments submitted to the FAA must be mailed or delivered to Mr. John W. Sutton, Director of Aviation, at the following address: 8101 Clear Creek Road, Box C, Killeen, Texas 76549-2557.

FOR FURTHER INFORMATION CONTACT: Mr. Steven Cooks, Program Manager, Federal Aviation Administration, Texas Airports Development Office, ASW-650, 2601 Meacham Boulevard, Fort Worth, Texas 76193-0650, Telephone: (817) 222-5608, e-mail: Steven.Cooks@faa.gov, fax: (817) 222-5989.

The request to release property may be reviewed in person at this same location.

SUPPLEMENTARY INFORMATION: The FAA invites public comment on the request to release property at the Killeen-Skylark Field under the provisions of the AIR 21.

The following is a brief overview of the request:

The City of Killeen requests the release of 15.058 acres of non-aeronautical airport property. This property was incorporated into the airport by an agreement with the FAA in 1988. The property to be released will be sold to allow for future development and maintenance of the airport.

Any person may inspect the request in person at the FAA office listed above under FOR FURTHER INFORMATION CONTACT.

In addition, any person may, upon request, inspect the application, notice and other documents relevant to the application in person at the Killeen-Skylark Field, telephone number (254) 501-6100.

Issued in Fort Worth, Texas on October 9, 2008.
Kelvin Solco,
Manager, Airports Division.

[FR Doc. E8-28744 Filed 12-4-08; 8:45 am]

BILLING CODE 4910-13-M